DEPARTMENT OF JUSTICE

Notice of Lodging of Proposed Consent Decree Under the Resource Conservation and Recovery Act and the Clean Water Act

On March 16, 2022, the Department of Justice lodged a proposed Consent Decree (“Decree”) with the United States District Court for the District of Alaska in the lawsuit entitled United States v. North Slope Borough, Civil Action No. 3:22-cv-00059-JWS.

The proposed Decree will resolve alleged violations of the Resource Conservation and Recovery Act arising from North Slope Borough's (“NSB”) solid and hazardous waste management practices, as well as alleged violations of the Clean Water Act, including failure to implement Spill Prevention Control and Countermeasure (“SPCC”) plans at 70 facilities and two unauthorized discharges. Under the terms of the Decree, NSB will close all unpermitted hazardous waste storage facilities; minimize generation and ensure proper tracking and management of solid and hazardous waste; build or retrofit a permitted hazardous waste storage facility; revise its SPCC plans; install adequate secondary containment around oil storage containers; and develop an integrity testing program for oil storage containers. NSB will pay a civil penalty of $6.5 million, and a third-party auditor will monitor its compliance with the terms of the Decree.

The publication of this notice opens a period for public comment on the Decree. Comments should be addressed to the Assistant Attorney General, Environment and Natural Resources Division, and should refer to United States v. North Slope Borough, D.J. Ref. No. 90-5-1-1-12099. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Decree may be examined and downloaded at this Justice Department website: https://www.justice.gov/enrd/consent-decrees. We will provide a paper copy of the Decree upon written request and payment of reproduction costs. Please mail your request and payment to: Consent Decree Library, U.S. DOJ—ENRD, P.O. Box 7611, Washington, DC 20044-7611.

Please enclose a check or money order for $26.00 (25 cents per page reproduction cost) payable to the United States Treasury.

Susan M. Akers,
Assistant Section Chief, Environmental Enforcement Section, Environment and Natural Resources Division.

[FR Doc. 2022-06003 Filed 3-21-22; 8:45 am]

BILLING CODE 4410-15-P